DEPARTMENT OF ENERGY

Federal Energy Regulatory Commission

Combined Notice of Filings #1

Take notice that the Commission received the following electric rate filings:

Docket Numbers: ER10-1910-017; ER10-1911-017.

Applicants: Duquesne Power, LLC, Duquesne Light Company.

Description: Notice of Change in Status of the Duquesne MBR Sellers.

Filed Date: 12/23/19.

Accession Number: 20191223-5337.

Comments Due: 5 p.m. ET 1/13/20.

Docket Numbers: ER10-2129-014.

Applicants: Grays Harbor Energy LLC.

Description: Triennial Report of Grays Harbor Energy LLC.

Filed Date: 12/23/19.

Accession Number: 20191223-5343.

Comments Due: 5 p.m. ET 2/21/20.

Docket Numbers: ER10-2135-014.

Applicants: Spindle Hill Energy LLC.

Description: Triennial Report of Spindle Hill Energy LLC.

Filed Date: 12/23/19.

Accession Number: 20191223-5344.

Comments Due: 5 p.m. ET 2/21/20.

Docket Numbers: ER10-2384-009; ER10-2383-009; ER14-2820-009 ER14-2821-009.

Applicants: Mountain Wind Power, LLC, Mountain Wind Power II LLC, Spring Canyon Energy II LLC, Spring Canyon Energy III LLC.

Description: Updated Market Power Analysis in Northwest region of the Clearway Energy Group LLC Sellers.

Filed Date: 12/26/19.

Accession Number: 20191226-5192.

Comments Due: 5 p.m. ET 2/24/20.

Docket Numbers: ER10-2596-009; ER12-2200-005.

Applicants: Fowler Ridge II Wind Farm LLC, Mehoopany Wind Energy LLC.

Description: Market Power Update for Northeast Region of Fowler Ridge II Wind Farm LLC, et al.

Filed Date: 12/23/19.

Accession Number: 20191223-5355.

Comments Due: 5 p.m. ET 2/21/20.

Docket Numbers: ER19-1634-002; ER10-2196-006; ER10-2740-014; ER10-2742-013; ER13-1141-005; ER13-1142-005; ER13-1143-007; ER13-1144-007; ER14-152-010; ER15-1657-010; ER16-918-004; ER17-1849-005 ER19-1009-001; ER19-1633-002; ER19-1638-002 ER19-1793-001; ER19-1795-001; ER19-1796-001 ER19-1797-001; ER19-1798-001; ER19-1799-001 ER19-902-001; ER20-528-001.

Applicants: Bridgeport Energy LLC, Elgin Energy Center, LLC, Essential Power Massachusetts, LLC, Essential Power Newington, LLC, Essential Power OPP, LLC, Essential Power Rock Springs, LLC, Lakewood Cogeneration, L.P., Lincoln Power, L.L.C., Nautilus Power, LLC, Revere Power, LLC, Rhode Island State Energy Center, LP, Rocky Road Power, LLC, Rumford Power LLC, SEPG Energy Marketing Services, LLC, Tilton Energy LLC, Tiverton Power LLC, Valcour Altona Windpark, LLC, Valcour Bliss Windpark, LLC, Valcour Chateaugay Windpark, LLC, Valcour Clinton Windpark, LLC, Valcour Ellenburg Windpark, LLC, Valcour Wethersfield Windpark, LLC, Valcour Wind Energy, LLC.

Description: Updated Market Power Analysis for the Northeast Region of Bridgeport Energy LLC, et al.

Filed Date: 12/26/19.

Accession Number: 20191226-5191.

Comments Due: 5 p.m. ET 2/24/20.

Docket Numbers: ER20-319-001.

Applicants: Kimball Wind LLC.

Description: Tariff Amendment: Kimball Wind LLC Amended MBR Filing to be effective 11/6/2019.

Filed Date: 12/27/19.

Accession Number: 20191227-5063.

Comments Due: 5 p.m. ET 1/17/20.

Docket Numbers: ER20-662-000.

Applicants: PacifiCorp.

Description: Notice of Termination of Various Inactive Agreements of PacifiCorp.

Filed Date: 12/20/19.

Accession Number: 20191220-5176.

Comments Due: 5 p.m. ET 1/10/20.

Docket Numbers: ER20-686-000.

Applicants: Tri-State Generation and Transmission Association, Inc.

Description: Baseline eTariff Filing: Open Access Transmission Tariff to be effective 3/23/2020.

Filed Date: 12/26/19.

Accession Number: 20191226-5175.

Comments Due: 5 p.m. ET 1/16/20.

Docket Numbers: ER20-687-000.

Applicants: Tri-State Generation and Transmission Association, Inc.

Description: Compliance filing: Compliance with Order No. 845 to be effective 3/23/2020.

Filed Date: 12/27/19.

Accession Number: 20191227-5027.

Comments Due: 5 p.m. ET 1/17/20.

Docket Numbers: ER20-688-000.

Applicants: Tri-State Generation and Transmission Association, Inc.

Description: § 205(d) Rate Filing: Transmission Service Agreements to be effective 3/23/2020.

Filed Date: 12/27/19.

Accession Number: 20191227-5033.

Comments Due: 5 p.m. ET 1/17/20.

Docket Numbers: ER20-689-000.

Applicants: Tri-State Generation and Transmission Association, Inc.

Description: § 205(d) Rate Filing: Tri-State's Other Member Agreements #2 to be effective 3/23/2020.

Filed Date: 12/27/19.

Accession Number: 20191227-5064.

Comments Due: 5 p.m. ET 1/17/20.

Docket Numbers: ER20-690-000.

Applicants: Tri-State Generation and Transmission Association, Inc.

Description: § 205(d) Rate Filing: Tri-State's Other Member Agreements #3 to be effective 3/23/2020.

Filed Date: 12/27/19.

Accession Number: 20191227-5065.

Comments Due: 5 p.m. ET 1/17/20.

Docket Numbers: ER20-691-000.

Applicants: Tri-State Generation and Transmission Association, Inc.

Description: § 205(d) Rate Filing: Tri-State's Other Member Agreements #1 to be effective 3/23/2020.

Filed Date: 12/27/19.

Accession Number: 20191227-5066.

Comments Due: 5 p.m. ET 1/17/20.

Take notice that the Commission received the following qualifying facility filings:

Docket Numbers: QF87-483-006.

Applicants: AES Hawaii, LLC.

Description: Notice of Change of Qualifying Facility Status, et al. of AES Hawaii, LLC.

Filed Date: 12/26/19.

Accession Number: 20191226-5187.

Comments Due: 5 p.m. ET 1/16/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2019.
Nathaniel J. Davis, Sr.,
Deputy Secretary.

[FR Doc. 2019-28398 Filed 1-2-20; 8:45 am]

BILLING CODE 6717-01-P